NUCLEAR REGULATORY COMMISSION

[Docket No. 50-219]

Amergen Energy Company, LLC; Notice of Receipt and Availability of Application for Renewal of Oyster Creek Nuclear Generating Station, Facility Operating License No. Dpr-16, for an Additional 20-Year Period

The U.S. Nuclear Regulatory Commission (NRC or Commission) has received an application, dated July 22, 2005, from AmerGen Energy Company, LLC, filed pursuant to Section 104b (DPR-16) of the Atomic Energy Act of 1954, as amended, and 10 CFR Part 54, to renew the operating license for the Oyster Creek Nuclear Generating Station. Renewal of the license would authorize the applicant to operate the facility for an additional 20-year period beyond the period specified in the current operating license. The current operating license for the Oyster Creek Nuclear Generating Station (DPR-16) expires on April 9, 2009. The Oyster Creek Nuclear Generating Station is a Boiling Water Reactor designed by General Electric. The unit is located near Forked River, NJ. The acceptability of the tendered application for docketing, and other matters including an opportunity to request a hearing, will be the subject of subsequent Federal Register notices.

Copies of the application are available for public inspection at the Commission's Public Document Room (PDR), located at One White Flint North, 11555 Rockville Pike (first floor), Rockville, Maryland, 20582 or electronically from the NRC's Agencywide Documents Access and Management System (ADAMS) Public Electronic Reading Room under accession number ML052080172. The ADAMS Public Electronic Reading Room is accessible from the NRC's Web site at http://www.nrc.gov/reading-rm/adams.html. In addition, the application is available at http://www.nrc.gov/reactors/operating/licensing/renewal/applications.html, on the NRC's Web page, while the application is under review. Persons who do not have access to ADAMS or who encounter problems in accessing the documents located in ADAMS should contact the NRC's PDR Reference staff at 1-800-397-4209, extension 301-415-4737, or by e-mail to pdr@nrc.gov.

A copy of the license renewal application for the Oyster Creek Nuclear Generating Station is also available to local residents near the Oyster Creek Nuclear Generating Station at the Lacey Public Library, 10 East Lacey Road, Forked River, NJ 08731.

Dated at Rockville, Maryland, this 29th day of July, 2005.
For the Nuclear Regulatory Commission.
Samson S. Lee,
Acting Program Director, License Renewal and Environmental Impacts Program, Division of Regulatory Improvement Programs, Office of Nuclear Reactor Regulation.

[FR Doc. E5-4146 Filed 8-3-05; 8:45 am]

BILLING CODE 7590-01-P